FEDERAL COMMUNICATIONS COMMISSION

[CC Docket No. 92-237; DA 19-804]

Next Meeting of the North American Numbering Council

AGENCY: Federal Communications Commission.

ACTION: Notice.

SUMMARY: In this document, the Commission released a public notice announcing the meeting of the North American Numbering Council (NANC). At this meeting, the NANC will consider and vote on a recommendation from its Interoperable Video Calling Working Group and receive an update from its Numbering Administration Oversight Working Group.

The NANC meeting is open to the public. The FCC will accommodate as many attendees as possible; however, admittance will be limited to seating availability. The Commission will also provide audio coverage of the meeting. Other reasonable accomodations for people with disabilities are available upon request. Requests for such accommodations should be submitted via email to fcc504@fcc.gov or by calling the Consumer and Governmental Affairs Bureau @(202) 418-0530 (voice), (202) 418-0432 (TTY). Such requests should include a detailed description of the accommodation needed. In addition, please include a way for the FCC to contact the requester if more information is needed to fill the request. Please allow at least five days advance notice for accommodation requests; last minute requests will be accepted but may not be possible to accommodate.

Members of the public may submit comments to the NANC in the FCC's Electronic Comment Filing System, ECFS, at www.fcc.gov/ecfs. Comments to the NANC should be filed in CC Docket No. 92-237.

More information about the NANC is available at https://www.fcc.gov/about-fcc/advisory-committees/general/north-american-numbering-council. You may also contact Marilyn Jones, DFO of the NANC, at marilyn.jones@fcc.gov., or (202) 418-2357, Michelle Sclater, Alternate DFO, at michelle.sclater@fcc.gov, or (202) 418- 0388; or Carmell Weathers, Special Assistant to the DFO, at carmell.weathers@fcc.gov, or (202) 418-2325.

DATES: Thursday, September 12, 2019, 10:00 a.m.

ADDRESSES: Requests to make an oral statement or provide written comments to the NANC should be sent to Carmell Weathers, Competition Policy Division, Wireline Competition Bureau, Federal Communications Commission, Portals II, 445 12th Street SW, Room 5-C162, Washington, DC 20554 or emailed to Carmell.Weathers@fcc.gov.

FOR FURTHER INFORMATION CONTACT: Carmell Weathers at (202) 418-2325 or Carmell.Weathers@fcc.gov. The fax number is: (202) 418-1413. The TTY number is: (202) 418-0484.

SUPPLEMENTARY INFORMATION: This is a summary of the Commission's document in CC Docket No. 92-237, DA 19-804 released Aug 22, 2019. The complete text in this document is available for public inspection and copying during normal business hours in the FCC Reference Information Center, Portals II, 445 12th Street SW, Room CY-A257, Washington, DC 20554. It is available on the Commission's website at http://www.fcc.gov.

*The Agenda may be modified at the discretion of the NANC Chairman with the approval of the Designated Federal Officer (DFO).

Federal Communications Commission.
Marilyn Jones,
Senior Counsel for Number Administration, Wireline Competition Bureau.

[FR Doc. 2019-18556 Filed 8-27-19; 8:45 am]

BILLING CODE 6712-01-P